DEPARTMENT OF AGRICULTURE

Animal and Plant Health Inspection Service

7 CFR Part 301

[Docket No. APHIS-2006-0002]

RIN 0579-AB91

Boll Weevil; Quarantine and Regulations

Correction

In proposed rule document E6-18150 beginning on page 63707 in the issue of Tuesday, October 31, 2006, make the following corrections:

1. On page 63707, in the first column, under the heading DATES, in the second and third lines “January 2, 2006” should read “January 2, 2007”.

2. On page 63716, in the first column, under the heading Louisiana, numbered paragraph (2) should read as follows:

“(2) Suppressive areas. Avoyelles, Caddo, Caldwell, Catahoula, Concordia, East Carroll, Franklin, La Salle, Madison, Morehouse, Ouachita, Rapides, Richland, Tensas, and West Carroll Parishes. ”.

[FR Doc. Z6-18150 Filed 11-2-06; 8:45 am]

BILLING CODE 1505-01-D

DEPARTMENT OF DEFENSE

Department of the Army

Performance Review Board Membership

Correction

In notice document 06-8935 beginning on page 63001 in the issue of Friday, October 27, 2006, make the following corrections:

1. On page 63002, in the second column, numbered paragraph 51. should read as follows:

“51. Mr. Gary P. Martin, Director, U.S. Army Communication—Electronics Research, Development and Engineering Center, U.S. Army Research, Development and Engineering Command.”.

2. On page 63003, in the first column, in paragraph 84., in the first line, “Ms. Claudia L. Tomblom” should read “Ms. Claudia L. Tornblom”.

[FR Doc. C6-8935 Filed 11-2-06; 8:45 am]

BILLING CODE 1505-01-D

DEPARTMENT OF DEFENSE

Department of the Army; Corps of Engineers

Intent To Prepare a Draft Environmental Impact Statement for the Lower Willamette River Dredged Material Management Plan, Portland, OR

Correction

In notice document 06-8934 beginning on page 63005 in the issue of Friday, October 27, 2006, make the following correction:

On page 63005, in the third column, under the DATES heading, in the first and second lines, “November 27, 2001” should read “November 27, 2006”.

[FR Doc. C6-8934 Filed 11-2-06; 8:45 am]

BILLING CODE 1505-01-D